DEPARTMENT OF ENERGY

Federal Energy Regulatory Commission

[Docket No. CP11-513-000]

Tennessee Gas Pipeline Company; Notice of Request Under Blanket Authorization

July 20, 2011.

Take notice that on July 11, 2011, Tennessee Gas Pipeline Company (Tennessee Gas), 1001 Louisiana Street, Houston, Texas 77002, filed an application pursuant to Section 7(b), Parts 157.205, and 157.208, of the Commission's regulations under the Natural Gas Act (NGA) for authorization to increase the maximum allowable operating pressure (MAOP) of a seven-mile, four-inch lateral designated as the Tomball Lateral (“Line 21B-100”) in Harris County, Texas, and to thereafter operate Line 2B-100 up to the higher MAOP. Specifically, Tennessee Gas proposes to increase the MAOP of Line 2B-100 from 678 psig to 750 psig, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding the application should be directed to Thomas G. Joyce, Manager, Certificates, Tennessee Gas Pipeline Company, 1001 Louisiana Street, Houston, Texas 77002, by telephone at (713) 420-3299, or by e-mail at tom.joyce@elpaso.com.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Dated: July 20, 2011.
Nathaniel J. Davis, Sr.,
Deputy Secretary.

[FR Doc. 2011-19078 Filed 7-27-11; 8:45 am]

BILLING CODE 6717-01-P